FARM CREDIT ADMINISTRATION

Sunshine Act Meetings

TIME AND DATE: 9:00 a.m., Thursday, January 13, 2022.

PLACE: Because of the COVID-19 pandemic, the public may only virtually attend the open portions of this meeting. If you would like to virtually attend, at least 24 hours in advance, visit FCA.gov, select “Newsroom,” and then select “Events.” From there, access the linked “Instructions for board meeting visitors.”

STATUS: Parts of this meeting will be open to the public. The rest of the meeting will be closed to the public.

MATTERS TO BE CONSIDERED:

Portions Open to the Public

• Approval of December 9, 2021 minutes

• Small Association Workgroup

• Bookletter-068 Tier 1/Tier 2 Capital Framework Guidance (Revised)

• OIG Year in Review and Report on FY 2021 Financial Statement Audit

Portions Closed to the Public

• Executive Session with Financial Statement Auditors ¹

¹ Session Closed-Exempt pursuant to 5 U.S.C. Section 552b(c)(2).

• Report on FY 2021 FISMA Audit ²

² Session Closed-Exempt pursuant to 5 U.S.C. Section 552b(c)(2).

CONTACT PERSON FOR MORE INFORMATION: If you need more information, need assistance for accessibility reasons, or have questions, contact Ashley Waldron, Secretary to the Board. Telephone: 703-883-4009. TTY: 703-883-4056.

Ashley Waldron,
Secretary to the Board.

[FR Doc. 2022-00003 Filed 1-3-22; 4:15 pm]

BILLING CODE 6705-01-P